DEPARTMENT OF JUSTICE

Antitrust Division

Notice Pursuant to the National Cooperative Research and Production Act of 1993—Petrotechnical Open Software Corporation (“POSC”)

Notice is hereby given that, on March 14, 2002, pursuant to section 6(a) of the National Cooperative Research and Production Act of 1993, 15 U.S.C. 4301 et seq. (“the Act”), Petrotechnical Open Software Corporation (“POSC”) has filed written notifications simultaneously with the Attorney General and the Federal Trade Commission disclosing changes in its membership status. The notifications were filed for the purpose of extending the Act's provisions limiting the recovery of antitrust plaintiffs to actual damages under specified circumstances. Specifically, SD Geologix, Norwich, UNITED KINGDOM; Oil and Natural Gas Corporation Ltd., Dehra Dun, INDIA; and Flare Consultants Limited, Marlow, UNITED KINGDOM have been added as parties to this venture.

No other changes have been made in either the membership or planned activity of the group research project. Membership in this group research project remains open, and Petrotechnical Open Software Corporation (“POSC”) intends to file additional written notification disclosing all changes in membership.

On January 14, 1991, Petrotechnical Open Software Corporation (“POSC”) filed its original notification pursuant to section 6(a) of the Act. The Department of Justice published a notice in the Federal Register pursuant to section 6(b) of the Act on February 7, 1991 (56 FR 5021).

The last notification was filed with the Department on February 23, 2000. A notice was published in the Federal Register pursuant to section 6(b) of the Act on March 8, 2001 (66 FR 13971).

Constance K. Robinson,
Director of Operations, Antitrust Division.

[FR Doc. 02-15240 Filed 6-17-02; 8:45 am]

BILLING CODE 4410-15-M